DEPARTMENT OF HOMELAND SECURITY

Transportation Security Administration

[Docket No. TSA-2004-19515]

Intent To Request Renewal From OMB of One Current Public Collection of Information: Air Cargo Security Requirements

AGENCY: Transportation Security Administration, DHS.

ACTION: 60-Day notice.

SUMMARY: The Transportation Security Administration (TSA) invites public comment on one currently approved Information Collection Request (ICR), OMB control number 1652-0040, abstracted below that we will submit to the Office of Management and Budget (OMB) for a revision in compliance with the Paperwork Reduction Act. The ICR describes the nature of the information collection and its expected burden. This ICR involves three broad categories of affected populations operating under a security program: Aircraft operators, foreign air carriers, and indirect air carriers. The collections of information that make up this ICR include security programs, security threat assessments (STA) on certain individuals, known shipper data via the Known Shipper Management System (KSMS), Indirect Air Carrier Management System (IACMS), and evidence of compliance recordkeeping. TSA seeks continued OMB approval in order to secure passenger aircraft carrying cargo as authorized in the Aviation and Transportation Security Act.

DATES: Send your comments by February 16, 2016.

ADDRESSES: Comments may be emailed to TSAPRA@dhs.gov or delivered to the TSA PRA Officer, Office of Information Technology (OIT), TSA-11, Transportation Security Administration, 601 South 12th Street, Arlington, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control Number 1652-0040 Air Cargo Security requirements, 49 CFR parts 1515, 1540, 1542, 1544, 1546, and 1548. The Aviation and Transportation Security Act (ATSA), requires TSA: (1) To provide for screening of all property, including U.S. mail, cargo, carry-on and checked baggage, and other articles, that will be carried aboard a passenger aircraft; and (2) to establish a system to screen, inspect, report, or otherwise ensure the security of all cargo that is to be transported in all-cargo aircraft as soon as practicable. See ATSA sec. 110 as codified at 49 U.S.C. 44901(a) and (f). These provisions were further amended by the Implementing Recommendations of the 9/11 Commission Act of 2007 (9/11 Act), to require 50 percent of cargo transported on passenger aircraft be screened by February 2009, and 100 percent of such cargo to be screened by August 2010. See 9/11 Act sec. 1602(a) as codified at 49 U.S.C. 44901(g). Collections of information associated with the 9/11 Act requirements fall under OMB control number 1652-0053.

TSA must proceed with this ICR in order to meet the Congressional mandates and continue to enforce current TSA regulations covering the acceptance, handling, and screening of cargo transported by air. The uninterrupted collection of this information will allow TSA to continue to ensure implementation of these vital security measures for the protection of the traveling public. TSA also is revising the collection to include information select regulated entities operating under certain amendments to their aircraft operator and foreign air carrier security programs must provide to TSA detailing screening volumes and the methodology utilized to arrive at these volumes, as well as demonstrating progress toward full compliance with the cargo security measures specified in such amendments.

Data Collection

This information collection requires the “regulated entities,” which includes aircraft operators, foreign air carriers, and indirect air carriers (IACs), to collect certain information as part of the implementation of a standard security program, to submit modifications to the standard security program to TSA for approval, and update such programs as necessary. As part of these security programs, the regulated entities must also collect personal information and submit such information to TSA so that TSA may conduct STAs on individuals with unescorted access to cargo. This includes each individual who is a general partner, officer, or director of an IAC or an applicant to be an IAC, and certain owners of an IAC or an applicant to be an IAC; and any individual who has responsibility for screening cargo under 49 CFR parts 1544, 1546, or 1548.

Further, both companies and individuals whom aircraft operators, foreign air carriers, and IACs have qualified to ship cargo on passenger aircraft, also referred to as “known shippers,” must submit information to TSA, This information is collected electronically through the KSMS. In accordance with TSA security program requirements, regulated entities may use an alternate manual submission method to identify known shippers.

Regulated entities must also enter into IACMS the information required from applicants requesting to be approved as IACs in accordance with 49 CFR 1548.7 and the information required for their IAC annual renewal. Regulated entities must also maintain records, including records pertaining to security programs, training, and compliance to demonstrate adherence with the regulatory requirements. These records must be made available to TSA upon request. The forms used in this collection of information include the Aviation Security Known Shipper Verification Form and the Security Threat Assessment Application.

Finally, select regulated entities operating under certain amendments to their aircraft operator and foreign air carrier security programs must provide information detailing screening volumes and the methodology utilized to arrive at these volumes, as well as demonstrating progress toward full compliance with the cargo security measures specified in such amendments. In light of current security threats, the collection of this information is critical.

Estimated Burden Hours

TSA estimates the hour burden for regulated entities associated with initial application of security programs via IACMS to be 4 hours for each of 340 average annual new entrants for an average annual hour burden of 1360 hours.

For the STA requirement, based on a 15-minute estimate for each of the average 98,500 annual responses, TSA estimates that the average annual burden will be 24,625 hours.

For the KSMS, given that the IAC or aircraft operator must input a name, address, and telephone number, TSA estimates it will take 2 minutes for the 476,167 electronic submissions for a total annual burden of 15,872 hours. Also for KSMS, TSA estimates it will take one hour for the 8,000 manual submissions for a total annual burden of 8,000 hours.

TSA estimates the hour burden associated with the security program renewals via IACMS to be 4 hours for each of the 4,100 IACs for an average annual hour burden of 16,400 hours. TSA estimates one percent of IACs (41) will file an appeal of rejected or incomplete renewals at 5 hours per appeal for an average annual hour burden of 205 hours.

For the record keeping requirement, based on a 5-minute estimate for each of the 98,500 annual responses, TSA estimates that the total average annual burden will be 8,208 hours.

For the cargo screening reports to be submitted by select aircraft operators and foreign air carriers operating under amendments to their security programs, TSA estimates that 10 air carriers will compile the required cargo screening information at an estimated time of one hour each per week with estimated annual burden of 520 hours (10 × 52).

Dated: December 9, 2015.
Christina A. Walsh,
TSA Paperwork Reduction Act Officer, Office of Information Technology.

[FR Doc. 2015-31410 Filed 12-14-15; 8:45 am]

BILLING CODE 9110-05-P